DEPARTMENT OF LABOR

Office of the Secretary

Submission for OMB Review; Comment Request

July 27, 2001.

The Department of Labor (DOL) has submitted the following public information collection requests (ICRs) to the Office of Management and Budget (OMB) for review and approval in accordance with the Paperwork Reduction Act of 1995 (Pub. L. 104-13, 44 U.S.C. Chapter 35). A copy of this ICR, with applicable supporting documentation, may be obtained by contacting the Department of Labor. To obtain documentation contact Darrin King at (202) 693-4129 or E-Mail King-Darrin@dol.gov.

Comments should be sent to Office of Information and Regulatory Affairs, Attn: OMB Desk Officer for BLS, Office of Management and Budget, Room 10235, Washington, DC 20503 (202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Type of Review: Revision of a currently approved collection.

Agency: Bureau of Labor Statistics (BLS).

Title: Annual Refiling Survey (ARS).

OMB Number: 1220-0032.

Affected Public: Business or other for-profit; not-for-profit institutions; individuals or households; farms; Federal Government; and State, Local, or Tribal Government.

Frequency: Every 3 years.

Number of Respondents: 2,272,998.

Form No. (survey) | Annual responses | Average response time (hours) | Burden hours
BLS 3023-NVS | 2,092,708 | .083 | 173,695
BLS 3023-NVM | 37,334 | .25 | 9,334
BLS 3023-NCA | 142,956 | .167 | 23,874
Total | 2,272,998 |  | 206,903

Total Anualized Capital/Startup Costs: $0.

Total Annual Costs (operating/maintaining systems or purchasing services): $0.

Description: To ensure the continued accuracy of published economic statistics, the information supplied by the employers must be periodically reviewed and updated. For this purpose, the BLS-3023 forms, collectively known as Annual Refiling Survey (ARS) forms, are used in conjunction with the UI tax reporting system in each State Employment Security Agency (SESA). The information collected on the ARS forms is used to review the existing industry code assigned to each establishment. The industry codes for establishments in which business activity has changed since the last review are updated to reflect this change. As a result of these updates, the industry data that the BLS and SESAs publish accurately reflect changes that occur in the industrial composition of the economy. This survey is authorized by 29 U.S.C. 2 and Section 15 of the Wagner-Peyser Act.

Ira L. Mills,
Departmental Clearance Officer.

[FR Doc. 01-19951 Filed 8-8-01; 8:45 am]

BILLING CODE 4510-24-M